DEPARTMENT OF HOMELAND SECURITY

Coast Guard

[Docket No. USCG-2009-0693]

Maritime Labour Convention, 2006; Informational Meeting

AGENCY: Coast Guard, DHS.

ACTION: Notice of informational meeting.

SUMMARY: The Coast Guard and the Maritime Administration will host an informational meeting to discuss the content of the Maritime Labour Convention, 2006 (MLC, 2006). The purpose of this meeting is to provide the industry with an overview of the MLC, 2006, and to help clarify areas that may require additional interpretation. This meeting is strictly informational and it is not meant to discuss the merits of ratification of the MLC, 2006. The meeting will be on Monday, August 24, 2009, and open to the public.

DATES: The public meeting will be on Monday, August 24, 2009, from 9 a.m. to 11:50 a.m., at the Department of Transportation, Conference Center, Rooms 8-9-10, 1200 New Jersey Avenue, SE., Washington, DC 20590, telephone 202-366-4000. Please note this meeting may close early if all business is finished.

ADDRESSES: This notice is available on the Internet at www.regulations.gov under the docket number USCG-2009-0693. The MLC, 2006, is available on the Internet at http://www.ilo.org/global/What_we_do/InternationalLabourStandards/MaritimeLabourConvention/lang—en/index.htm.

FOR FURTHER INFORMATION CONTACT: If you have questions on this notice contact Mr. Anthony D. Morris, U.S. Coast Guard Headquarters, CG-5221, Room 1210, 2100 Second Street SW., Stop 7126, Washington, DC 20593-7126; telephone 202-372-1408, fax 202-372-1926, or e-mail at Anthony D. Morris@uscg.mil.

SUPPLEMENTARY INFORMATION:

Information on Services for Individuals With Disabilities

For information on facilities or services for individuals with disabilities or to request special assistance at the meeting, contact Mr. Anthony D. Morris at the telephone number or e-mail address indicated under the FOR FURTHER INFORMATION CONTACT section of this notice as soon as possible.

Background and Purpose: The MLC, 2006, was adopted by the International Labour Conference of the International Labour Organization (ILO) in February 2006. It sets out seafarers' rights to decent conditions of work and helps to create conditions of fair competition for shipowners. The MLC, 2006, has been designed to become the “fourth pillar” of the international regulatory regime for quality shipping complementing the key conventions of the International Maritime Organization (IMO), such as the International Convention for the Safety of Life at Sea, 1974, as amended (SOLAS), the International Convention on Standards of Training, Certification and Watchkeeping, 1978, as amended (STCW), and the International Convention for the Prevention of Pollution from Ships, 73/78 (MARPOL). The MLC, 2006, contains a comprehensive set of global standards, based on those that are already found in 68 maritime labour instruments adopted by the ILO since 1920.

Meeting Agenda: The purpose of this meeting is to provide the industry with an overview of the MLC, 2006, and to help clarify areas that may require additional interpretation. This meeting is strictly informational and it is not meant to discuss the merits of ratification of the MLC, 2006. The tentative agenda of the meeting is:

• Introduction to the MLC, 2006;

• Seafarer's perspective;

• Shipowner's perspective;

• Overview of the MLC, 2006;

• United States Process for ratification.

Procedural

The meeting is open to the public. Please note that the meeting may close early if all business is finished. At the meeting facilitator's discretion, members of the public may make presentations and ask questions in response to information provided at the meeting. The meeting will not be recorded and the Coast Guard and the Maritime Administration do not intend to provide response to presentations. However, a summary of the information presented by the Coast Guard and the Maritime Administration will be made available after the meeting on the Internet at http://homeport.uscg.mil.

A government-issued photo identification (for example, a driver's license) will be required for entrance at the meeting location. We encourage individuals planning on attending to arrive early in order to allow sufficient time before the meeting to clear security.

This notice is issued under authority of 5 U.S.C. 552.

Dated: August 7, 2009.
J.G. Lantz,
Director of Commercial, Regulations and Standards.

[FR Doc. E9-19395 Filed 8-12-09; 8:45 am]

BILLING CODE 4910-15-P